DEPARTMENT OF ENERGY

Federal Energy Regulatory Commission

Combined Notice of Filings

Take notice that the Commission has received the following Natural Gas Pipeline Rate and Refund Report filings:

Filings Instituting Proceedings

Docket Numbers: RP18-791-001.

Applicants: Cheniere Corpus Christi Pipeline, LP.

Description: Tariff Amendment: Amendment to Negotiated Rate (physical contract) to be effective 6/1/2018.

Filed Date: 5/24/18.

Accession Number: 20180524-5186.

Comments Due: 5 p.m. ET 6/1/18.

Docket Numbers: RP18-836-000.

Applicants: East Tennessee Natural Gas, LLC.

Description: § 4(d) Rate Filing: Duke Energy Progress K410104 Neg Rate eff 11-1-2018 to be effective 11/1/2018.

Filed Date: 5/25/18.

Accession Number: 20180525-5039.

Comments Due: 5 p.m. ET 6/6/18.

Docket Numbers: RP18-837-000.

Applicants: Iroquois Gas Transmission System, L.P.

Description: § 4(d) Rate Filing: 052518 Negotiated Rates—Castleton Commodities Merchant Trading R-4010-06 to be effective 5/25/2018.

Filed Date: 5/25/18.

Accession Number: 20180525-5044.

Comments Due: 5 p.m. ET 6/6/18.

Docket Numbers: RP18-838-000.

Applicants: Tennessee Gas Pipeline Company, L.L.C.

Description: § 4(d) Rate Filing: PCB Adjustment Period Extension through 2020 to be effective 7/1/2018.

Filed Date: 5/25/18.

Accession Number: 20180525-5105.

Comments Due: 5 p.m. ET 6/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2018.
Nathaniel J. Davis, Sr.,
Deputy Secretary.

[FR Doc. 2018-12015 Filed 6-4-18; 8:45 am]

BILLING CODE 6717-01-P